DEPARTMENT OF LABOR

Employment and Training Administration

[TA-W-56,831]

Mueller Copper Tube Products, Inc., Subsidiary of Mueller Industries, Inc., Wynne, AR; Notice of Negative Determination on Remand

The United States Court of International Trade (USCIT) granted the Secretary of Labor's motion for a voluntary remand in Former Employees of Mueller Copper Tube Products, Inc. v. Elaine Chao, U.S. Secretary of Labor, Court No. 05-00442.

The Department's initial negative determination for the former workers of Mueller Copper Tube Products, Inc., a subsidiary of Mueller Industries, Inc., Wynne, Arkansas (hereafter “Mueller Copper Tube Products”) for Trade Adjustment Assistance (“TAA”) was issued on May 17, 2005. The Notice of determination was published in the Federal Register on June 13, 2005 (70 FR 34154).

The petition for the workers of Mueller Copper Tube Products engaged in the production of copper tube products was denied because the “contributed importantly” group eligibility requirement of Section 222 of the Trade Act of 1974, as amended, was not met, nor was there a shift in production from that firm to a foreign country. The “contributed importantly” test is generally demonstrated through a survey of the workers' firm's customers. The survey revealed that customers of the subject firm did not increase reliance on imports of copper tube products in 2003, 2004 and during the period of January through March of 2005 over the corresponding 2003 period. The subject firm did not import copper tube products nor did it shift production to a foreign country during the relevant period.

By letter of July 14, 2005 to the USCIT, the Petitioners appealed the denial alleging that the subject firm lost its business due to other businesses selling copper tubing manufactured in Mexico.

A careful review of the documents revealed that the Department surveyed major declining customers of the subject firm regarding their purchases of “copper tubing”. In order to establish import impact, the Department must consider imports that are “like or directly competitive” with those produced at the subject firm. Because the customer survey which specifies copper tubing as a product might have omitted information on other “like or directly competitive” products, the Department requested, and was granted, a voluntary remand to conduct a further investigation. The Order was issued on September 13, 2005.

Hence, during the remand investigation, the Department conducted another survey of the subject firm's major declining customers regarding their purchases of products “like or directly competitive” to copper tubing manufactured by the subject firm during the relevant time period. The remand investigation revealed that the major declining customers did not increase their reliance on imports of products “like or directly competitive” to copper tubing during the relevant time period.

Conclusion

After reconsideration on remand, I affirm the original notice of negative determination of eligibility to apply for adjustment assistance for workers and former workers of Mueller Copper Tube Products, Inc., a subsidiary of Mueller Industries, Inc., Wynne, Arkansas.

Signed at Washington, DC, this 9th day of November, 2005.
Elliott S. Kushner,
Certifying Officer, Division of Trade Adjustment Assistance.

[FR Doc. E5-6465 Filed 11-22-05; 8:45 am]

BILLING CODE 4510-30-P